ENVIRONMENTAL PROTECTION AGENCY

[FRL-7426-8]

Agency Information Collection Activities: Submission for OMB Review; Comment Request; Voluntary Customer Satisfaction Surveys

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Voluntary Customer Satisfaction Surveys, OMB Control Number 2090-0019, expiring March 31, 2003. The ICR describes the nature of the information collection and its expected burden and cost, where appropriate, it includes the actual data collection instrument.

DATES: Comments must be submitted on or before January 23, 2003.

ADDRESSES: Send comments, referencing EPA ICR No. 1711.04 and OMB Control No 2090-0019 to the following addresses: Susan Auby, U.S. Environmental Protection Agency, Collection Strategies Division (Mail Code 2822T), 1200 Pennsylvania Avenue, NW., Washington, DC 20460-0001, and to Office of Information and Regulatory Affairs, Office of Management and Budget (OMB), Attention: Desk Officer for EPA, 725 17th Street, NW., Washington, DC 20503.

FOR FURTHER INFORMATION CONTACT: For a copy of the ICR contact Susan Auby at EPA by phone at 202-566-1672, by e-mail at auby.susan@epa.gov, or download off the Internet at http://www.epa.gov/icr and refer to EPA ICR No 1711.04. For technical questions about the ICR contact: Patricia Bonner by phone at 202-566-2204 or by e-mail at bonner.patricia@epa.gov.

SUPPLEMENTARY INFORMATION: Title: Voluntary Customer Satisfaction Surveys, OMB Control No. 2090-0019, EPA ICR Number 1711.04 expiring March 31, 2003. This is a request for extension of a currently approved collection.

Abstract: EPA uses voluntary surveys to learn how satisfied EPA customers are with our services, and how we can improve services, products and processes. EPA surveys individuals who use services or could have. During the next three years, EPA plans up to 185 surveys, and will use results to target/measure service delivery improvements. By seeking renewal of the generic clearance for customer surveys, EPA will have the flexibility to gather the views of our customers to better determine the extent to which our services, products and processes satisfy their needs or need to be improved. The generic clearance will speed the review and approval of customer surveys that solicit opinions from EPA customers on a voluntary basis, and do not involve “fact-finding” for the purposes of regulatory development or enforcement.

An Agency may conduct or sponsor, and a person is not required to respond to, a collection of information unless it has a currently valid OMB control number. The OMB control numbers for EPA's regulations are listed in 40 CFR part 9 and 48 CFR chapter 15. The Federal Register document required under 5 CFR 1320.8(d), soliciting comments on this information collection was published July 26, 2002 (FR 67 48893); no comments were received.

Burden Statement: The annual public reporting and record keeping burden for this collection of information is estimated to average 5 minutes to 2 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Individuals or households.

Estimated Number of Respondents: 58,827.

Frequency of Response: On occasion.

Estimated Total Annual Hour Burden: 2,966.

Estimated Total Annualized Capital, O&M Cost Burden: 0.

Send comments on the Agency's need for this information, the accuracy of burden estimates, and any suggested methods for minimizing respondent burden, including use of automated collection techniques, to the following addresses. Please refer to EPA ICR No. 1711.04 and OMB Control No. 2090-0019 in any correspondence.

Dated: December 10, 2002.
Oscar Morales,
Director, Collection Strategies Division.

[FR Doc. 02-32395 Filed 12-23-02; 8:45 am]

BILLING CODE 6560-50-P